DEPARTMENT OF COMMERCE

International Trade Administration

[C-580-837]

Certain Cut-to-Length Carbon-Quality Steel Plate From the Republic of Korea: Preliminary Results of Countervailing Duty Administrative Review, and Preliminary Intent To Rescind in Part: Calendar Year 2015

AGENCY: Enforcement and Compliance, International Trade Administration, Department of Commerce.

SUMMARY: The Department of Commerce (the Department) is conducting an administrative review of the countervailing duty (CVD) order on certain cut-to-length carbon-quality steel plate from the Republic of Korea (Korea) for the period January 1, 2015, through December 31, 2015. This review covers multiple exporters/producers; two of which are being individually examined as mandatory respondents. The Department preliminary determines that Hyundai Steel Co. (Hyundai Steel) received countervailable subsidies that are above de minimis and that Dongkuk Steel Mill Co., Ltd. (DSM) received countervailable subsidies that are de minimis. Therefore, we are applying to the five firms not selected for individual examination in the administrative review the above de minimis net subsidy rate calculated for Hyundai Steel. See the “Preliminary Results of Review” section below.

DATES: Effective March 15, 2017.

FOR FURTHER INFORMATION CONTACT: John Conniff (for Hyundai Steel) or Jolanta Lawska (for DSM), AD/CVD Operations, Office III, Enforcement and Compliance, International Trade Administration, U.S. Department of Commerce, 1401 Constitution Avenue NW., Washington, DC 20230; telephone (202) 482-1009 and (202) 482-8362, respectively.

SUPPLEMENTARY INFORMATION:

Intent to Partially Rescind the Administrative Review

The Department initiated a review of 15 companies in this segment of the proceeding.¹ Between April 15 and May 9, 2016, we received timely filed no shipment certifications from GS Global Corp. (GS Global), Hyundai Glovis, Hyundai Mipo Dockyard Co., Ltd (Hyundai Mipo), Hyuosung Corporation (Hyuosung), Posco Daewoo Corporation (formerly known as Daewoo International Corp.) ² (Posco Daewoo Corp.), Samsung C&T Corporation (Samsung C&T Corp.), SK Networks Co., Ltd. (SK Networks), and Samsung Heavy Industries. Because there is no evidence on the record to indicate that these companies had sales of subject merchandise during the period of review (POR), pursuant to 19 CFR 351.213(d)(3), the Department intends to rescind the review with respect to GS Global, Hyundai Glovis, Hyundai Mipo, Hyuosung, Posco Daewoo Corp., Samsung C&T Corp., SK Networks, and Samsung Heavy Industries. A final decision regarding whether to rescind on these companies will be made in the final results of this review.

¹ See Initiation of Antidumping and Countervailing Duty Administrative Reviews, 81 FR 20324 (April 7, 2016).

² On May 5, 2016 the Department received a “Notice of No Sales” letter from Posco Daewoo Corporation, which was formerly known as “Daewoo International Corp.”

Scope of the Order

The merchandise covered by the order is certain cut-to-length plate from Korea. For a complete description of the scope of this administrative review, see the Preliminary Decision Memorandum.³

³ See “Decision Memorandum for the Preliminary Results of the Countervailing Duty Administrative Review, and the Preliminary Intent to Rescind in Part: Certain Cut-to-Length Carbon-Quality Steel Plate from the Republic of Korea,” from James Maeder, Senior Director, Office I, Antidumping and Countervailing Duty Operations, to Ronald K. Lorentzen, Acting Assistant Secretary for Enforcement and Compliance, dated concurrently with this notice (Preliminary Decision Memorandum).

Methodology

The Department is conducting this review in accordance with section 751(a)(1)(A) of the Tariff Act of 1930, as amended (the Act). For each of the subsidy programs found countervailable, we preliminarily determine that there is a subsidy, i.e., a financial contribution by an “authority” that confers a benefit to the recipient, and that the subsidy is specific.⁴ For a full description of the methodology underlying our conclusions, see the accompanying Preliminary Decision Memorandum. The Preliminary Decision Memorandum is a public document and is on file electronically via Enforcement and Compliance's Antidumping and Countervailing Duty Centralized Electronic Service System (ACCESS). ACCESS is available to registered users at https://access.trade.gov and in the Central Records Unit, Room B8024 of the main Department of Commerce building. In addition, a complete version of the Preliminary Decision Memorandum can be accessed directly on the internet at http://enforcement.trade.gov/frn/index.html. The signed Preliminary Decision Memorandum and the electronic version of the Preliminary Decision Memorandum are identical in content.

⁴ See sections 771(5)(B) and (D) of the Act regarding financial contribution; section 771(5)(E) of the Act regarding benefit; and section 771(5A) of the Act regarding specificity.

Rate for Non-Selected Companies Under Review

There are five companies for which a review was requested and not preliminarily rescinded, but were not selected as mandatory respondents. We are applying to the non-selected companies the rate preliminarily calculated for Hyundai Steel, which is above de minimis.

Preliminary Results of the Review

In accordance with 19 CFR 351.221(b)(4)(i), we calculated an individual subsidy rate for DSM and Hyundai Steel. For the period January 1, 2015, through December 31, 2015, we preliminarily determine that the following net subsidy rates for the producers/exporters under review to be as follows:

Company | 2015 Ad valorem rate (percent)
Dongkuk Steel Mill Co., Ltd | 0.13 (de minimis)
Hyundai Steel Co., Ltd | 0.54
Bookuk Steel | 0.54
BDP International | 0.54
Samsung C&T Engineering and Construction Group | 0.54
Sung Jin Steel Co., Ltd | 0.54
Samsung C&T Trading and Investment Group | 0.54

Disclosure and Public Comment

The Department intends to disclose to parties to this proceeding the calculations performed in reaching the preliminary results within five days of the date of publication of these preliminary results.⁵ Interested parties may submit written arguments (case briefs) within 30 days of publication of the preliminary results and rebuttal comments (rebuttal briefs) within five days after the time limit for filing the case briefs.⁶ Pursuant to 19 CFR 351.309(d)(2), rebuttal briefs must be limited to issues raised in the case briefs. Parties who submit arguments are requested to submit with the argument: (1) Statement of the issue; (2) a brief summary of the argument; and (3) a table of authorities.

⁵ See 19 CFR 351.224(b).

⁶ See 19 CFR 351.309(c)(1)(ii); 351.309(d)(1); and 19 CFR 351.303 (for general filing requirements).

Interested parties who wish to request a hearing must submit a written request to the Assistant Secretary for Enforcement and Compliance, U.S. Department of Commerce, within 30 days after the date of publication of this notice.⁷ Requests should contain the party's name, address, and telephone number, the number of participants, and a list of the issues to be discussed. If a request for a hearing is made, we will inform parties of the scheduled date for the hearing, which will be held at the U.S. Department of Commerce, 1401 Constitution Avenue NW., Washington, DC 20230, at a time and location to be determined.⁸ Parties should confirm by telephone the date, time, and location of the hearing.

⁷ See 19 CFR 351.310(c).

⁸ See 19 CFR 351.310.

Parties are reminded that briefs and hearing requests are to be filed electronically using ACCESS and that electronically filed documents must be received successfully in their entirety by 5:00 p.m. Eastern Time on the due date.

Unless the deadline is extended pursuant to section 751(a)(3)(A) of the Act, the Department will issue the final results of this administrative review, including the results of our analysis of the issues raised by parties in their comments, within 120 days after issuance of these preliminary results.

Assessment Rates and Cash Deposit Requirements

Upon completion of the administrative review, the Department shall determine, and U.S. Customs and Border Protection (CBP) shall assess, countervailing duties on all appropriate entries covered by this review. We intend to issue assessment instructions to CBP 15 days after publication of the final results of this review.

The Department also intends to instruct CBP to collect cash deposits of estimated countervailing duties in the amounts indicated above for each company listed on shipments of subject merchandise entered, or withdrawn from warehouse, for consumption on or after the date of publication of the final results of this administrative review. For all non-reviewed firms, we will instruct CBP to collect cash deposits of estimated countervailing duties at the most recent company-specific or all-others rate applicable to the company, as appropriate. These cash deposit requirements, when imposed, shall remain in effect until further notice.

This administrative review and notice are in accordance with sections 751(a)(1) and 777(i)(1) of the Act and 19 CFR 351.213.

Dated: February 28, 2017.
Ronald K. Lorentzen,
Acting Assistant Secretary for Enforcement and Compliance.

Appendix—List of Topics Discussed in the Preliminary Decision Memorandum

I. Summary

II. Background

III. Intent To Rescind the 2015 Administrative Review, in Part

IV. Non-Selected Rate

V. Scope of the Order

VI. Subsidies Valuation Information

A. Allocation Period

B. Attribution of Subsidies

C. Benchmarks for Long-Term Loans and Discount Rates

D. Denominators

VII. Analysis of Programs

A. Programs Preliminarily Determined To Be Countervailable

B. Programs Preliminarily Determined Not To Confer a Measurable Benefit

C. Programs Preliminarily Determined To Not Be Countervailable

D. Other Programs

E. Additional Programs Preliminarily Determined To Be Not Used During the POR

VIII. Recommendation

[FR Doc. 2017-05132 Filed 3-14-17; 8:45 am]

BILLING CODE 3510-DS-P